DEPARTMENT OF ENERGY

Federal Energy Regulatory Commission

[Docket No. EG03-19-000, et al.]

FPL Energy New Mexico Wind, L.L.C., et al.; Electric Rate and Corporate Filings

November 19, 2002.

The following filings have been made with the Commission. The filings are listed in ascending order within each docket classification.

1. FPL Energy New Mexico Wind, L.L.C.

[Docket No. EG03-19-000]

Take notice that on November 14, 2002, FPL Energy New Mexico Wind, L.L.C. (the Applicant), with its principal office at 700 Universe Blvd., Juno Beach, Florida 33408, filed with the Federal Energy Regulatory Commission (the Commission) an application for determination of exempt wholesale generator status pursuant to part 365 of the Commission's regulations.

Applicant states that it is a Delaware limited liability company engaged directly and exclusively in the business of owning and operating an up to 204 MW wind-powered generation facility located in Quay and DeBaca Counties, New Mexico. Electric energy produced by the facility will be sold at wholesale.

Comment Date: December 10, 2002.

2. Duke Energy Fayette, L.L.C.

[Docket No. EG03-20-000]

Take notice that on November 15, 2002, Duke Energy Fayette, L.L.C. (Duke Fayette) filed with the Federal Energy Regulatory Commission (the Commission) an application for determination of exempt wholesale generator status pursuant to section 32 of the Public Utility Holding Company Act of 1935, as amended, and part 365 of the Commission's regulations.

Duke Fayette is a Delaware limited liability company that states it will be engaged directly and exclusively in the business of operating all or part of one or more eligible facilities to be located in Fayette County, Pennsylvania. The eligible facilities will consist of an approximately 620 MW natural gas-fired, combined cycle electric generation plant and related facilities. The output of the eligible facilities will be sold at wholesale.

Comment Date: December 10, 2002.

3. Midwest Independent Transmission System Operator, Inc.

[Docket Nos. ER98-1438-012 and ER02-111-004]

Take notice that on November 15, 2002, the Midwest Independent Transmission System Operator, Inc. (Midwest ISO) tendered for filing proposed revisions to its Open Access Transmission Tariff (OATT), FERC Electric Tariff, Second Revised Volume No. 1, and Agreement of the Transmission Facilities Owners To Organize The Midwest Independent Transmission System Operator, Inc., First Revised Rate Schedule FERC No. 1 (Midwest ISO Agreement) in compliance with the Commission's Order in Midwest Independent Transmission System Operator Inc., 101 FERC 61,113. The Midwest ISO has requested waiver of the Commission's 60-day notice provision of section 205 of the Federal Power Act in order to accommodate an effective date of the original date of filing in Docket No. ER98-1438-010.

The Midwest ISO has requested waiver of the requirements set forth in 18 CFR 385.2010. The Midwest ISO has electronically served a copy of this filing upon all Midwest ISO Members, Member representatives of Transmission Owners and Non-Transmission Owners, the Midwest ISO Advisory Committee participants, Policy Subcommittee participants, as well as all state commissions within the region. In addition, the filing has been electronically posted on the Midwest ISO's Web site at http://www.midwestiso.org under the heading “Filings to FERC” for other interested parties in this matter. The Midwest ISO will provide hard copies to any interested parties upon request.

Comment Date: December 6, 2002.

4. Phoenix Energy Associates, L.L.C.

[Docket No. ER03-182-000]

Take notice that on November 14, 2002, Phoenix Energy Associates, L.L.C. (Phoenix Energy), tendered for filing their Rate Schedule FERC No. 1, under which Phoenix Energy will engage in wholesale electric power and energy transactions as a marketer.

Comment Date: December 5, 2002.

5. PPL Electric Utilities Corporation

[Docket No. ER03-183-000]

Take notice that on November 14, 2002, PPL Electric Utilities Corporation (PPL Electric) and PPL Susquehanna, L.L.C. (PPL Susquehanna) filed with the Commission a notice of cancellation of an Interconnection Agreement to which they are parties designated as FERC Electric Rate Schedule No. 171 and filed on December 7, 1999, and tendered a replacement Interconnection Agreement designated as PJM Service Agreement No. 816.

The Interconnection Agreement is being cancelled, and contemporaneously refiled, in order to implement a revision to Exhibit A and to comport with the Commission's current policy whereby Interconnection Agreements are filed as service agreements under the Open Access Transmission Tariff of the relevant Independent System Operator, here PJM Interconnection, L.L.C. PPL Electric and PPL Susquehanna request the same effective date for cancellation of the Interconnection Agreement and for the amended Interconnection Agreement and request waivers as necessary to permit effective dates for both as of the date of filing.

Comment Date: December 5, 2002.

6. Geysers Power Company, L.L.C.

[Docket No. ER03-184-000]

Take notice that on November 14, 2002, Geysers Power Company, L.L.C., tendered for filing updated rate schedule sheets for calendar year 2003 for its Reliability Must-Run service agreements with the California Independent System Operator (ISO), designated as Rate Schedules FERC Nos. 4 and 5. Copies of the filing have been served upon the ISO and Pacific Gas and Electric Company.

Comment Date: December 5, 2002.

7. Duke Energy Fayette, L.L.C.

[Docket No. ER03-185-000]

Take notice that on November 15, 2002, Duke Energy Fayette, L.L.C. (Duke Fayette) tendered for filing pursuant to section 205 of the Federal Power Act its proposed FERC Electric Tariff No. 1.

Duke Fayette seeks authority to sell energy and capacity, as well as ancillary services, at market-based rates, together with certain waivers and preapprovals. Duke Fayette also seeks authority to sell, assign, or transfer transmission rights that it may acquire in the course of its marketing activities. Duke Fayette seeks an effective date 60 days from the date of filing of its proposed rate tariff.

Comment Date: December 6, 2002.

8. PacifiCorp

[Docket No. ER03-186-000]

Take notice that on November 15, 2002, PacifiCorp tendered for filing in accordance with 18 CFR 35 of the Commission's rules and regulations, notice of cancellation of Rate Schedule No. 428 between PUD No. 1 of Clark County, WA and PacifiCorp.

Copies of this filing were supplied to PUD No. 1 of Clark County, WA, the Washington Utilities and Transportation Commission and the Public Utility Commission of Oregon.

Comment Date: December 6, 2002.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's web site under the “e-Filing” link. The Commission strongly encourages electronic filings.

Linwood A. Watson, Jr.,
Deputy Secretary.

[FR Doc. 02-29934 Filed 11-25-02; 8:45 am]

BILLING CODE 6717-01-P